DEPARTMENT OF ENERGY

Federal Energy Regulatory Commission

[Docket No. ER01-739-000, et al.]

Duke Electric Transmission, et al.; Electric Rate and Corporate Regulation Filings

December 29, 2000.

Take notice that the following filings have been made with the Commission:

1. Duke Electric Transmission, a Division of Duke Energy Corporation

[Docket No. ER01-739-000]

Take notice that on December 21, 2000, Duke Electric Transmission (Duke ET), tendered for filing First Revised Service Agreement No. 194 with Carolina Power & Light Company, for Transmission Service under Duke ET's Open Access Transmission Tariff.

Duke requests that the proposed Revised Service Agreement be permitted to become effective on January 1, 2001.

Duke states that this filing is in accordance with Part 35 of the Commission's Regulations and a copy has been served on the North Carolina Utilities Commission.

Comment date: January 12, 2001, in accordance with Standard Paragraph E at the end of this notice.

2. Puget Sound Energy, Inc.

[Docket No. ER01-743-000]

Take notice that on December 21, 2000, Puget Sound Energy, Inc., as Transmission Provider, tendered for filing a Service Agreement for Firm Point-To-Point Transmission Service and a Service Agreement for Non-Firm Point-To-Point Transmission Service with The Legacy Energy Group, LLC (Legacy) as Transmission Customer.

A copy of the filing was served upon Legacy.

Comment date: January 12, 2001, in accordance with Standard Paragraph E at the end of this notice.

3. Puget Sound Energy, Inc.

[Docket No. ER01-744-000 ]

Take notice that on December 21, 2000, Puget Sound Energy, Inc., as Transmission Provider, tendered for filing a Service Agreement for Firm Point-To-Point Transmission Service and a Service Agreement for Non-Firm Point-To-Point Transmission Service with El Paso Merchant Energy, L.P. (EPME), as Transmission Customer.

A copy of the filing was served upon EPME.

Comment date: January 12, 2001, in accordance with Standard Paragraph E at the end of this notice.

4. New England Power Company

[Docket No. ER01-745-000]

Take notice that on December 21, 2000, New England Power Company (NEP) tendered for filing a service agreement between NEP and Rhode Island State Energy Partners, L.P. (RISEP) for Firm Local Generation Delivery Service under NEP's FERC Electric Tariff, Original Volume No. 9.

Copies of the filing have been served upon RISEP and the Rhode Island Public Utilities Commission.

Comment date: January 12, 2001, in accordance with Standard Paragraph E at the end of this notice.

5. Consumers Energy Company

[Docket No. ER01-746-000]

Take notice that on December 21, 2000, Consumers Energy Company (Consumers), tendered for filing a Facilities Agreement Between Consumers and Wolverine Power Supply Cooperative, Inc, (Wolverine), dated November 30, 2000 (Agreement). Under the Agreement, Consumers is to build, operate and maintain certain facilities interconnecting Wolverine's Vestaburg substation and Consumers' transmission system.

Consumers requested that the Agreement be allowed to become effective October 23, 1998.

Copies of the filing were served upon Wolverine and the Michigan Public Service Commission.

Comment date: January 12, 2001, in accordance with Standard Paragraph E at the end of this notice.

6. Attala Generating Company, LLC

[Docket No. ER01-747-000]

Take notice that on December 21, 2000, Attala Generating Company, LLC (Attala), tendered for filing pursuant to Section 205 of the Federal Power Act, and Part 35 of the Commission's Regulations, an application for authorization to make sales of capacity, energy, and certain Ancillary Services at market-based rates; to reassign transmission capacity; and to resell firm transmission rights (FTRs). Attala proposes to own or lease and operate a natural gas-fired, combined cycle power plant of approximately 500 MW capacity in Attala County, Mississippi.

Comment date: January 12, 2001, in accordance with Standard Paragraph E at the end of this notice.

7. Harquahala Generating Company, LLC

[Docket No. ER01-748-000]

Take notice that on December 21, 2000, Harquahala Generating Company, LLC (Harquahala), tendered for filing, pursuant to Section 205 of the Federal Power Act, and Part 35 of the Commission's Regulations, an application for authorization to make sales of capacity, energy, and certain Ancillary Services at market-based rates; to reassign transmission capacity; and to resell firm transmission rights (FTRs). Harquahala proposes to construct a natural gas-fired, combined cycle power plant of approximately 1,050 MW capacity in Maricopa County near the town of Tonopah, Arizona.

Comment date: January 12, 2001, in accordance with Standard Paragraph E at the end of this notice.

8. Ameren Services Company

[Docket No. ER01-749-000]

Take notice that on December 21, 2000, Ameren Services Company (ASC), tendered for filing a Service Agreement for Firm Point-to-Point Transmission Services between ASC and Ameren Energy, Inc., (customer). ASC asserts that the purpose of the Agreement is to permit ASC to provide transmission service to customer pursuant to Ameren's Open Access Transmission Tariff.

Comment date: January 12, 2001, in accordance with Standard Paragraph E at the end of this notice.

9. WPS Resources Operating Companies

[Docket No. ER01-750-000]

Take notice that on December 21, 2000, WPS Resources Operating Companies (WPSR), tendered for filing a revised executed service agreement with Stratford Water & Electric Utility (Stratford) for ancillary services and distribution service under WPSR's open access transmission tariff, FERC Electric Tariff, Original Volume No. 1 (OATT).

WPSR requests a January 1, 2001 effective date.

Copies of the filing were served upon Stratford, the Michigan Public Service Commission and the Public Service Commission of Wisconsin.

Comment date: January 12, 2001, in accordance with Standard Paragraph E at the end of this notice.

10. Mountain View Power Partners, LLC

[Docket No. ER01-751-000]

Take notice that on December 21, 2000, Mountain View Power Partners, LLC (Mountain View) tendered for filing with Commission an application for acceptance of Mountain View's Rate Schedule FERC No. 1; the granting of certain blanket approvals, including the authority to sell electric energy, capacity and ancillary services at market-based rates; and the waiver of certain Commission regulations.

Comment date: January 12, 2001, in accordance with Standard Paragraph E at the end of this notice.

11. PJM Interconnection, L.L.C.

[Docket No. ER01-752-000]

Take notice that on December 21, 2000, PJM Interconnection, L.L.C. (PJM), tendered for filing the following revisions to PJM's Open Access Transmission Tariff (Tariff):

Third Revised Sheet No. 24

Third Revised Sheet No. 72

Original Sheet No. 87V

and the following revisions to the Amended and Restated Operating Agreement of PJM Interconnection, L.L.C. (OA):

First Revised Sheet No. 42

PJM states that the Tariff and OA revisions are related to the restructuring of the Mid-Atlantic Area Council, which is the reliability council for the PJM region.

PJM requests an effective date of January 1, 2001 for the tariff and OA revisions.

Comment date: January 12, 2001, in accordance with Standard Paragraph E at the end of this notice.

12. Enron Power Marketing, Inc.; Enron Energy Services, Inc.; Clinton Energy Management Services, Inc.; New Albany Power I, L.L.C.; Enron Energy Marketing Corp.; The New Power Company

[Docket No. ER01-753-000]

Take notice that on December 21, 2000, the above listed marketing affiliates of Enron Corp., tendered for filing proposed changes in their respective Rate Schedule FERC No. 1 and the proposed elimination of Codes of Conduct. The changes consist of removing restrictions on the sale of power and non-power goods and services between the listed Enron Marketing Affiliates and Portland General Electric Company (PGE), based on Enron Corp.'s pending sale of PGE. That sale would cause the above-listed Enron Marketing Affiliates no longer to be affiliated with PGE.

Comment date: January 12, 2001, in accordance with Standard Paragraph E at the end of this notice.

13. Tucson Electric Power Company

[Docket No. ER01-754-000]

Take notice that on December 21, 2000, Tucson Electric Power Company tendered for filing one (1) umbrella service agreement (for short-term firm service) and one (1) service agreement (for non-firm service) pursuant to Part II of Tucson's Open Access Transmission Tariff, which was filed in Docket No. ER00-771-000.

The details of the service agreements are as follows:

(1) Umbrella Agreement for Short-Term Firm Point-to-Point Transmission Service dated as of November 30, 2000 by and between Tucson Electric Power Company and Tri-State G&T Power Marketing—FERC Electric Tariff Vol. No. 2, Service Agreement No. 144. No service has commenced at this time.

(2) Form of Service Agreement for Non-Firm Point-to Point Transmission Service dated as of November 30, 2000 by and between Tucson Electric Power Company and Tri-State G&T Power Marketing—FERC Electric Tariff Vol. No. 2, Service Agreement No. 145. No service has commenced at this time.

Comment date: January 9, 2001, in accordance with Standard Paragraph E at the end of this notice.

14. Public Service Company of New Mexico

[Docket No. ER01-755-000]

Take notice that on December 21, 2000, Public Service Company of New Mexico (PNM), tendered for filing a revised service agreement (dated August 4, 2000), for electric power and energy sales at negotiated rates under the terms of PNM's Power and Energy Sales Tariff, with American Electric Power Service Corporation. PNM's filing is available for public inspection at its offices in Albuquerque, New Mexico.

Copies of the filing have been sent to American Electric Power Services Corporation and to the New Mexico Public Regulation Commission.

Comment date: January 12, 2001, in accordance with Standard Paragraph E at the end of this notice.

15. PJM Interconnection, L.L.C.

[Docket No. ER01-756-000]

Take notice that on December 21, 2000, PJM Interconnection, L.L.C. (PJM), tendered for filing an executed interconnection service agreement between PJM and Bethlehem Steel Corporation.

PJM requests a waiver of the Commission's 60-day notice requirement to permit the effective dates agreed to by the parties.

Copies of this filing were served upon Bethlehem Steel Corporation and the state electric utility regulatory commissions within the PJM control area.

Comment date: January 12, 2001, in accordance with Standard Paragraph E at the end of this notice.

16. Wayne-White Counties Electric Cooperative

[Docket No. ER01-757-000]

Take notice that on December 21, 2000, Wayne-White Counties Electric Cooperative (WWCEC or Cooperative), tendered for filing an executed Service Agreement for Firm Point-to-Point Transmission Service with Illinois Power Company. Under the Service Agreement, WWCEC will provide firm point-to-point transmission service to Illinois Power Company under the Cooperative's Open Access Transmission Tariff.

WWCEC requests an effective date of January 1, 2001, the date service will be first provided.

A copy of the filing was served upon Illinois Power Company.

Comment date: January 12, 2001, in accordance with Standard Paragraph E at the end of this notice.

17. West Texas Utilities Company

[Docket No. ER01-758-000]

Take notice that on December 21, 2000, West Texas Utilities Company (WTU), tendered for filing a revised service agreement (Service Agreement) under WTU's Wholesale Power Choice Tariff (WPC Tariff) between WTU and Pedernales Electric Cooperative, Inc., (Pedernales). WTU states that the Service Agreement originally was between WTU and Kimble Electric Cooperative, Inc. (Kimble) and that, on July 14, 2000, Kimble transferred all right, title and interest in the service agreement to Pedernales. The only change to the Service Agreement is the change in names.

WTU requests an effective date for the revised service agreement of July 14, 2000. Accordingly, WTU requests waiver of the Commission's notice requirements.

WTU states that a copy of the filing was served on Pedernales and on the Public Utility Commission of Texas.

Comment date: January 12, 2001, in accordance with Standard Paragraph E at the end of this notice.

18. Connecticut Yankee Atomic Power Company

[Docket No. ER01-813-000]

Take notice that on December 21, 2000, Connecticut Yankee Atomic Power Company (Connecticut Yankee), tendered for filing a limited general policy compliance filing proposing to change the application of certain funds collected for post-retirement benefits other than pensions (PBOP) into the external nonqualified nuclear decommissioning trust fund until such time as they are needed to meet PBOP obligations. Connecticut Yankee states that the proposed change would have no impact on its revenue requirement.

Connecticut Yankee states that copies of the filing have been provided to its jurisdictional customers and to state regulatory authorities in Vermont, New Hampshire, Maine, Massachusetts, Connecticut and Rhode Island.

Comment date: January 12, 2001, in accordance with Standard Paragraph E at the end of this notice.

19. Southern California Water Company, d/b/a Bear Valley Electric Service, Complainant, v. Southern California Edison Company, Respondent.

[Docket No. EL01-25-000]

Take notice that on December 28, 2000, Southern California Water Company, d/b/a Bear Valley Electric Service, tendered for filing a complaint against Southern California Edison Company alleging that Edison was seeking unlawfully to terminate the Added Facilities Agreement between the parties, Southern California Edison FERC Electric Rate Schedule No. 394.4.

Comment date: January 18, 2001, in accordance with Standard Paragraph E at the end of this notice. Answers to the complaint shall also be due on or before January 18, 2001.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 01-438 Filed 1-5-01; 8:45 am]

BILLING CODE 6717-01-P